COMMITTEE FOR PURCHASE FROM PEOPLE WHO ARE BLIND OR SEVERELY DISABLED

Procurement List; Proposed Additions

AGENCY: Committee for Purchase From People Who Are Blind or Severely Disabled.

ACTION: Proposed Additions to Procurement List.

SUMMARY: The Committee has received proposals to add to the Procurement List services to be furnished by nonprofit agencies employing persons who are blind or have other severe disabilities.

COMMENTS MUST BE RECEIVED ON OR BEFORE: March 27, 2000.

ADDRESS: Committee for Purchase From People Who Are Blind or Severely Disabled, Crystal Gateway 3, Suite 310, 1215 Jefferson Davis Highway, Arlington, Virginia 22202-4302.

FOR FURTHER INFORMATION CONTACT: Louis R. Bartalot (703) 603-7740

SUPPLEMENTARY INFORMATION: This notice is published pursuant to 41 U.S.C. 47(a) (2) and 41 CFR 51-2.3. Its purpose is to provide interested persons an opportunity to submit comments on the possible impact of the proposed actions.

If the Committee approves the proposed additions, all entities of the Federal Government (except as otherwise indicated) will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services have been proposed for addition to Procurement List for production by the nonprofit agencies listed:

Administrative Services

Internal Revenue Service Collections Department, 1100 Commerce Street, Dallas, Texas

NPA: Dallas Lighthouse for the Blind, Inc., Dallas, Texas

Internal Revenue Service Mailroom, 1100 Commerce Street, Dallas, Texas

NPA: Dallas Lighthouse for the Blind, Inc., Dallas, Texas

Internal Revenue Service Mailroom, 1919 Smith Street, Houston, Texas

NPA: The Lighthouse of Houston, Houston, Texas

Telephone Switchboard Operations

Department of Veterans Affairs Medical Center, 100 Emancipation Drive, Hampton, Virginia

NPA: Association for Retarded Citizens of the Peninsula, Inc., Hampton, Virginia

Rita L. Wells,
Deputy Director (Policy and Program Coordination).

[FR Doc. 00-4480 Filed 2-24-00; 8:45 am]

BILLING CODE 6353-01-P